DEPARTMENT OF HOMELAND SECURITY

Federal Emergency Management Agency

[Docket ID FEMA-2014-0002 (65F90)]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arizona:
Maricopa (FEMA Docket No.: B-1409) | Town of Cave Creek (13-09-2950P) | The Honorable Vincent Francia, Mayor, Town of Cave Creek, 37622 North Cave Creek Road, Cave Creek, AZ 85331 | 37622 North Cave Creek Road, Cave Creek, AZ 85331 | May 5, 2014 | 040129
Maricopa (FEMA Docket No.: B-1409) | Unincorporated areas of Maricopa County (13-09-2950P) | The Honorable Steve Chucri, Supervisor, District 2, Maricopa County, 301 West Jefferson, 10th Floor, Phoenix, AZ 85003 | 2801 West Durango Street, Phoenix, AZ 85003 | May 5, 2014 | 040037
California:
San Bernardino (FEMA Docket No.: B-1409) | City of Yucaipa (13-09-1511P) | The Honorable Denise Hoyt, Mayor, City of Yucaipa, 34272 Yucaipa Boulevard, Yucaipa, CA 92399 | 34272 Yucaipa Boulevard, Yucaipa, CA 92399 | April 4, 2014 | 060739
Connecticut:
Fairfield (FEMA Docket No.: B-1409) | Town of Greenwich (13-01-2161P) | The Honorable Peter Tesei, First Selectman, Town of Greenwich, 101 Field Point Road, Greenwich, CT 06830 | Town Hall, 101 Field Point Road, Greenwich, CT 06830 | April 11, 2014 | 090008
Connecticut:
New Haven (FEMA Docket No.: B-1409) | City of West Haven (13-01-2240P) | The Honorable John M. Picard, Mayor, City of West Haven, 355 Main Street, West Haven, CT 06516 | City Hall, 355 Main Street, West Haven, CT 06516 | May 29, 2014 | 090092
Idaho:
Blaine (FEMA Docket No.: B-1409) | Unincorporated Areas of Blaine County (12-10-1241P) | The Honorable Lawrence Schoen, Blaine County Chairman, Board of Commissioners, 206 First Avenue South, Suite 300, Hailey, ID 83333 | Blaine County Planning & Zoning, 219 First Avenue South, Suite 208, Hailey, ID 83333 | April 3, 2014 | 165167
Illinois:
Adams (FEMA Docket No.: B-1409) | City of Quincy (13-05-7063) | The Honorable Kyle A. Moore, Mayor, City of Quincy, 730 Maine Street, Quincy, IL 62301 | Quincy City Hall, 730 Maine Street, Quincy, IL 62301 | March 18, 2014 | 170003
Adams (FEMA Docket No.: B-1409) | Unincorporated Areas of Adams County (13-05-7063P) | The Honorable Les Post, 101 North 54th Street, Quincy, IL 62305 | Adams County Highway Department, 101 North 54th Street, Quincy, IL 62305 | March 18, 2014 | 170001
DuPage (FEMA Docket No.: B-1409) | Village of Woodridge (13-05-5378P) | The Honorable Gina Cunningham-Pic, 5 Plaza Drive, Woodridge, IL 60517 | Village Hall, 5 Plaza Drive, Woodridge, IL 60517 | May 2, 2014 | 170737
Will (FEMA Docket No.: B-1409) | City of Naperville (13-05-8584P) | The Honorable A. George Pradel, Mayor, City of Naperville, 400 South Eagle Street, Naperville, IL 60540 | City Hall, 400 South Eagle Street, Naperville, IL 60540 | May 12, 2014 | 170213
Will (FEMA Docket No.: B-1409) | City of Naperville (13-05-3255P) | The Honorable A. George Pradel, Mayor, City of Naperville, 400 South Eagle Street, Naperville, IL 60540 | City Hall, 400 South Eagle Street, Naperville, IL 60540 | April 28, 2014 | 170213
Will (FEMA Docket No.: B-1409) | Unincorporated Areas of Will County (13-05-8584P) | The Honorable Lawrence M. Walsh, Will County Chairman, 302 North Chicago Street, Joliet, IL 60432 | Will County Land Use, 58 East Clinton Street, Suite 500, Joliet, IL 60432 | May 12, 2014 | 170695
Will (FEMA Docket No.: B-1409) | Unincorporated Areas of Will County (13-05-3255P) | The Honorable Lawrence M. Walsh, Will County Chairman, 302 North Chicago Street, Joliet, IL 60432 | Will County Land Use, 58 East Clinton Street, Suite 500, Joliet, IL 60432 | April 28, 2014 | 170695
Will (FEMA Docket No.: B-1409) | Village of Bolingbrook (13-05-5378P) | The Honorable Roger C. Claar, Mayor, Village of Bolingbrook, 375 West Briarcliff Road, Bolingbrook, IL 60440 | Village Hall, 375 West Briarcliff Road, Bolingbrook, IL 60440 | May 2, 2014 | 170812
Indiana:
Hamilton (FEMA Docket No.: B-1409) | Town of Sheridan (13-05-7380P) | The Honorable David W. Kinkead, Council President, Town of Sheridan, 506 South Main Street, Sheridan, IN 46069 | 506 South Main Street, Sheridan, IN 46069 | May 13, 2014 | 180516
Iowa:
Black Hawk (FEMA Docket No.: B-1409) | City of Cedar Falls (13-07-0495P) | The Honorable Jon Crews, 220 Clay Street, Cedar Falls, IA 50613 | 220 Clay Street, Cedar Falls, IA 50613 | March 18, 2014 | 190017
Jefferson (FEMA Docket No.: B-1409) | City of Fairfield (13-07-1849P) | The Honorable Ed Malloy, Mayor, City of Fairfield, 118 South Main, Fairfield, IA 52556 | 118 South Main, Fairfield, IA 52556 | May 30, 2014 | 190168
Linn County (FEMA Docket No.: B-1409) | City of Cedar Rapids (13-07-1848P) | The Honorable Ron Corbett, 101 First Street SE, Cedar Rapids, IA 52401 | 500 15th Avenue SW, Cedar Rapids, IA 52404 | March 16, 2014 | 190187
Kansas:
Sedgwick (FEMA Docket No.: B-1409) | City of Wichita (13-07-1822P) | The Honorable Carl Brewer, Mayor, City of Wichita, 455 North Main, 1ST Floor, Wichita, KS 67202 | Code Enforcement Office, 144 South Seneca Street, Wichita, KS 67213 | June 19, 2014 | 200328
Sedgwick (FEMA Docket No.: B-1409) | Unincorporated Areas of Sedgwick County (13-07-1822P) | The Honorable James Skelton, Commissioner, 5TH District of Sedgwick County, 525 North Main, Suite 320, Wichita, KS 67203 | Office of Storm Water Management, 455 North Main, 8TH Floor, Wichita, KS 67202 | June 19, 2014 | 200321
Maine:
Cumberland (FEMA Docket No.: B-1409) | City of Portland (13-01-1727P) | The Honorable Michael F. Brennan, Mayor, City of Portland, 389 Congress Street, Portland, ME 04101 | City Hall, 389 Congress Street, Portland, ME 04101 | March 20, 2014 | 230051
Michigan:
Ingham (FEMA Docket No.: B-1409) | Charter Township of Delhi (13-05-4699P) | The Honorable C.J. Davis, Supervisor, Charter Township of Delhi, 2074 Aurelius Road, Holt, MI 48842 | 2074 Aurelius Road, Holt, MI 48842 | May 5, 2014 | 260088
Minnesota:
Ramsey (FEMA Docket No.: B-1409) | City of Arden Hills (13-05-5828P) | The Honorable Stan Harpstead, Mayor, City of Arden Hills, 1245 West Highway 96, Arden Hills, MN 55112 | 1245 West Highway 96, Arden Hills, MN 55112 | May 1, 2014 | 270375
Washington (FEMA Docket No.: B-1409) | City of Oakdale (14-05-1498P) | The Honorable Carmen Sarrack, Mayor, City of Oakdale, 1584 Hadley Avenue North, Oakdale, MN 55128 | 1584 Hadley Avenue North, Oakdale, MN 55128 | May 15, 2014 | 270511
Nebraska:
Buffalo (FEMA Docket No.: B-1409) | City of Ravenna (13-07-2384P) | The Honorable Peg R. Dethlefs, Mayor, City of Ravenna, 416 Grand Avenue, Ravenna, NE 68869 | 416 Grand Avenue, Ravenna, NE 68869 | May 12, 2014 | 310018
Ohio:
Cuyahoga (FEMA Docket No.: B-1409) | City of Solon (13-05-5208P) | The Honorable Susan A. Drucker, Mayor, City of Solon, 34200 Bainbridge Road, Solon, OH 44139 | 34200 Bainbridge Road, Solon, OH 44139 | January 3, 2014 | 390130
Franklin (FEMA Docket No.: B-1409) | City of Columbus (13-05-6825P) | The Honorable Michael B. Coleman, Mayor, City of Columbus, 90 West Broad Street, 2ND Floor, Columbus, OH 43215 | 1250 Fairwood Avenue, Columbus, OH 43206 | April 17, 2014 | 390170
Franklin (FEMA Docket No.: B-1409) | Unincorporated Areas of Franklin County (13-05-7936) | The Honorable John O'Grady, Franklin County Commissioner, 373 South High Street, 26TH Floor, Columbus, OH 43215 | 150 South Front Street, FSL Suite 10, Columbus, OH 43215 | April 22, 2014 | 390167
Lucas (FEMA Docket No.: B-1409) | City of Toledo (13-05-0687P) | The Honorable Michael P. Bell, Mayor, City of Toledo, One Government Center, 640 Jackson Street, Suite 2200, Toledo, OH 43604 | Division of Engineering Services, 1 Lake Erie Center, Suite 300, Toledo, OH 43604 | December 13, 2013 | 395373
Lucas (FEMA Docket No.: B-1409) | City of Toledo (13-05-0689P) | The Honorable Michael P. Bell, Mayor, City of Toledo, One Government Center, 640 Jackson Street, Suite 2200, Toledo, OH 43604 | Division of Engineering Services, 1 Lake Erie Center, Suite 300, Toledo, OH 43604 | December 13, 2013 | 395373
Stark (FEMA Docket No.: B-1409) | City of Louisville (13-05-2237P) | The Honorable Patricia A. Fallot, Mayor, City of Louisville, 215 South Mill Street, Louisville, OH 44641 | 215 South Mill Street, Louisville, OH 44641 | March 14, 2014 | 390516
Oregon:
Clackamas (FEMA Docket No.: B-1409) | City of Portland (13-10-1438P) | The Honorable Charlie Hales, Mayor, City of Portland, 1221 SW 4TH Avenue, Room 340, Portland, OR 97204 | City of Portland Bureau of Environmental Services, 1120 SW 5TH Avenue, Suite 1000, Portland, OR 97204 | May 29, 2014 | 410183
Jackson (FEMA Docket No.: B-1409) | City of Ashland (13-10-1570P) | The Honorable John Stromberg, Mayor, City of Ashland, 20 East Main Street, Ashland, OR 97520 | 20 East Main Street, Ashland, OR 97520 | March 18, 2014 | 410090
Jackson (FEMA Docket No.: B-1409) | City of Medford (13-10-0817P) | The Honorable Gary Wheeler, Mayor, City of Medford, 411 West 8TH Street, Medford, OR 97501 | Lausmann Annex, 200 South Ivy Street, Room 277, Medford, OR 97501 | April 10, 2014 | 410096
Marion (FEMA Docket No.: B-1409) | City of Aumsville (13-10-1209P) | The Honorable Harold White, Mayor, City of Aumsville, 595 Main Street, Aumsville, OR 97325 | City Hall, 595 Main Street, Aumsville, OR 97325 | March 14, 2014 | 410155
Marion (FEMA Docket No.: B-1409) | City of Salem (13-10-1443P) | The Honorable Anna M Peterson, 555 Liberty Street Southeast, Salem, OR 97301 | City Hall, 555 Liberty Street Southeast, Salem, OR 97301 | April 11, 2014 | 410167
Marion (FEMA Docket No.: B-1409) | Unincorporated Areas of Marion County (13-10-1209P) | The Honorable Patti Milne, PO Box 14500, Salem, OR 97309 | Marion County Department of Planning, 5155 Silverton Road NE, Salem, OR 97305 | March 14, 2014 | 410155
Rhode Island:
Providence (FEMA Docket No.: B-1409) | Town of Smithfield (13-01-1817P) | The Honorable Alberto J. LaGreca, Jr., President, Smithfield Town Council, 64 Farnum Pike, Smithfield, RI 02917 | Town Hall, 64 Farnum Pike, Smithfield, RI 02917 | April 3, 2014 | 440025
Virginia:
Wythe (FEMA Docket No.: B-1409) | Town of Wytheville (13-03-1765P) | The Honorable Trenton G. Crewe, Jr., Mayor, Town of Wytheville, 150 East Monroe Street, Wytheville, VA 24382 | 150 East Monroe Street, Wytheville, VA 24382 | May 15, 2014 | 510181
Wythe (FEMA Docket No.: B-1409) | Unincorporated Areas of Wythe County (13-03-1765P) | The Honorable Danny C. McDaniel, Chair, Wythe County Board of Supervisors, 340 South 6TH Street, Suite A, Wytheville, VA 24382 | 340 South 6th Street, Suite A, Wytheville, VA 24382 | May 15, 2014 | 510180
Washington:
King (FEMA Docket No.: B-1409) | City of Burien (14-10-0009P) | The Honorable Lucy Krakowiak, Mayor, City of Burien, 400 Southwest 152ND Street, Suite 300, Burien, WA 98166 | 400 Southwest 152nd Street, Suite 300, Burien, WA 98166 | June 16, 2014 | 550321
Wisconsin:
Brown (FEMA Docket No.: B-1409) | Village of Bellevue (13-05-5752P) | The Honorable Craig Beyl, President, Village of Bellevue, 2828 Allouez Avenue, Bellevue, WI 54311 | 2828 Allouez Avenue, Bellevue, WI 54311 | March 13, 2014 | 550627
Fond Du Lac (FEMA Docket No.: B-1409) | City of Waupun (13-05-8521P) | The Honorable Jodi Steger, Mayor, City of Waupun, 201 East Main Street, Waupun, WI 53963 | 201 East Main Street, Waupun, WI 53963 | April 2, 2014 | 550108
Green Lake (FEMA Docket No.: B-1409) | City of Markesan (13-05-7472P) | The Honorable Richard Slate, Mayor, City of Markeson, 150 South Bridge Street, Markesan, WI 53946 | 150 South Bridge Street, Markesan, WI 53946 | June 2, 2014 | 550169
Green Lake (FEMA Docket No.: B-1409) | Unincorporated Areas of Green Lake County (13-05-7472P) | Mr. Alan K. Shute, Land Development Director, Green Lake County, 571 County Road, Suite A, Green Lake, WI 54971 | 108 North Capron Street, Berlin, WI 54923 | June 2, 2014 | 550165
Kenosha (FEMA Docket No.: B-1409) | City of Kenosha (13-05-8170P) | The Honorable Jim Kreuser, Kenosha County Executive, 10105 6TH Street, Kenosha, WI 53140 | 19600 75th Street, Kenosha, WI 53140 | May 13, 2014 | 550523
Kenosha (FEMA Docket No.: B-1409) | Unincorporated Areas of Kenosha County (13-05-8170P) | The Honorable Keith G. Bosman, Mayor, City of Kenosha, 625 52ND Street, Room 300, Kenosha, WI 53140 | 625 52nd Street, Kenosha, WI 53140 | May 13, 2014 | 550209
Outagamie (FEMA Docket No.: B-1409) | City of Appleton (13-05-7920P) | The Honorable Tim Hanna, Mayor, City of Appleton, 100 North Appleton Street, Appleton, WI 54911 | City Hall, 100 North Appleton Street, Appleton, WI 54911 | June 5, 2014 | 555542
Outagamie (FEMA Docket No.: B-1409) | Unincorporated Areas of Outagamie County (13-05-7384P) | The Honorable Robert Paltzer, Jr., 410 South Walnut Street, Appleton, WI 54911 | County Administration Building, 410 South Walnut Street, Appleton, WI 54911 | March 24, 2014 | 550302
Rock (FEMA Docket No.: B-1409) | City of Beloit (13-05-3956P) | The Honorable Larry N. Arft, City Manager, City of Beloit, 100 State Street, Beloit, WI 53511 | City Hall, 100 State Street, Beloit, WI 53511 | April 1, 2014 | 555544
Sheboygan (FEMA Docket No.: B-1409) | City of Plymouth (13-05-5518P) | The Honorable Don Pohlman, Mayor, City of Plymouth, 128 Smith Street, Plymouth, WI 53073 | City Hall, 128 Smith Street, Plymouth, WI 53073 | March 21, 2014 | 550428

(Catalog of Federal Domestic Assistance No. 97.022, “Flood Insurance.”)

Dated: May 13, 2014.
Roy E. Wright,
Deputy Associate Administrator for Mitigation, Department of Homeland Security, Federal Emergency Management Agency.

[FR Doc. 2014-13887 Filed 6-12-14; 8:45 am]

BILLING CODE 9110-12-P